DEPARTMENT OF THE INTERIOR

National Park Service

[NPS-AKR-ANIA-KOVA-WRST-17357; PPAKAKROR4; PPMPRLE1Y.LS0000]

Aniakchak National Monument Subsistence Resource Commission (SRC), the Kobuk Valley National Park SRC, and the Wrangell-St. Elias National Park SRC; Meetings

AGENCY: National Park Service, Interior.

ACTION: Meeting notice.

SUMMARY: As required by the Federal Advisory Committee Act (5 U.S.C. Appendix 1-16), the National Park Service (NPS) is hereby giving notice that the Aniakchak National Monument Subsistence Resource Commission (SRC), the Kobuk Valley National Park SRC, and the Wrangell-St. Elias National Park SRC will hold meetings to develop and continue work on NPS subsistence program recommendations and other related regulatory proposals and resource management issues. The NPS SRC program is authorized under Section 808 of the Alaska National Interest Lands Conservation Act (16 U.S.C. 3118), Title VIII.

Aniakchak National Monument SRC Meeting Date and Location: The Aniakchak National Monument SRC will meet from 1:00 p.m. to 5:00 p.m. or until business is completed on Tuesday, February 3, 2015, at the Community Center in Port Heiden, AK. For more detailed information regarding the Aniakchak National Monument SRC meeting, or if you are interested in applying for SRC membership, contact Designated Federal Official Diane Chung, Superintendent, at (907) 246-3305, or via email diane_chung@nps.gov, or Clarence Summers, Subsistence Manager, at (907) 644-3603, or via email clarence_summers@nps.gov.

Kobuk Valley National Park Src Meeting/Teleconference Dates and Location: The Kobuk Valley National Park SRC will meet/teleconference from 9:00 a.m. to 5:00 p.m. or until business is completed on Wednesday, February 11, 2015, at the Northwest Arctic Heritage Center in Kotzebue, AK. The teleconference will be open to the public. Teleconference participants must call Kobuk Valley National Park office at (907) 442-3890 by Tuesday, February 10, 2015, prior to the meeting to receive teleconference passcode information. For more detailed information regarding the Kobuk Valley National Park SRC meetings, or if you are interested in applying for SRC membership, contact Designated Federal Official Frank Hays, Superintendent, at (907) 442-3890, or via email frank_hays@nps.gov, or Clarence Summers, Subsistence Manager, at (907) 644-3603, or via email clarence_summers@nps.gov.

Wrangell-St. Elias National Park SRC Meeting/Teleconference Dates and Location: The Wrangell-St. Elias National Park SRC will meet/teleconference from 9:00 a.m. to 5:00 p.m. or until business is completed on Thursday, February 26, 2015, and Friday, February 27, 2015, at the Buster Gene Memorial Facility in Gakona, AK. If the work of the SRC is completed on Thursday, February 26, 2015, the SRC will not meet on Friday, February 27, 2015. Teleconference participants must call the Wrangell-St. Elias National Park office at (907) 822-7236 or (907) 822-5234, by Friday, February 20, 2015, prior to the meeting to receive teleconference passcode information. For more detailed information regarding the Wrangell-St. Elias National Park SRC meeting/teleconference, or if you are interested in applying for SRC membership, contact Designated Federal Official Rick Obernesser, Superintendent, at (907) 822-3182, or via email rick_obernesser@nps.gov, or Barbara Cellarius, Subsistence Manager, at (907) 822-7236, or via email barbara_cellarius@nps.gov, or Clarence Summers, Subsistence Manager, at (907) 644-3603, or via email clarence_summers@nps.gov.

Proposed Meeting Agenda: The agenda may change to accommodate SRC business.

The proposed meeting agenda for each meeting includes the following:

1. Call to Order—Confirm Quorum

2. Welcome and Introductions

3. Review and Adoption of Agenda

4. Approval of Minutes

5. Superintendent's Welcome and Review of the Commission Purpose

6. Commission Membership Status

7. SRC Chair and Members' Reports

8. Superintendent's Report—NPS

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: These meetings are open to the public and will have time allocated for public testimony. The public is welcome to present written or oral comments to the SRC. The meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: January 9, 2015.
Alma Ripps,
Chief, Office of Policy.

[FR Doc. 2015-00668 Filed 1-15-15; 8:45 am]

BILLING CODE 4310-EE-P